DEPARTMENT OF TRANSPORTATION

Federal Highway Administration

Environmental Impact Statement: Los Angeles County, CA

AGENCY: Federal Highway Administration (FHWA), DOT.

ACTION: Notice of intent.

SUMMARY: The FHWA, on behalf of the California Department of Transportation (Caltrans), is issuing this notice to advise the public that a draft Environmental Impact Statement (EIS) will be prepared for the proposed New State Route 138 project in Los Angeles County, California.

FOR FURTHER INFORMATION CONTACT: Ronald Kosinski, Deputy District Director, California Department of Transportation District 7 Division of Environmental Planning, 100 South Main Street, Mail Stop 16A, Los Angeles, CA 90012.

SUPPLEMENTARY INFORMATION: Effective July 1, 2007, the FHWA assigned, and Caltrans assumed, environmental responsibilities for this project pursuant to 23 U.S.C. 327. Caltrans as the delegated National Policy Act (NEPA) lead agency will prepare a draft Environmental Impact Statement on a proposal to construct a new freeway/expressway within the City of Palmdale, Los Angeles County, California. The proposed alignment follows the existing Avenue P-8 corridor from State Route 14 to 100th Street for a distance of approximately 10 miles. This is part of a larger overall plan to construct a new freeway/expressway between SR-14 in Los Angeles County and I-15 in San Bernardino County.

Improvements to this corridor are considered necessary to provide for the existing and projected traffic demand attributed to large-scale growth and increasing developments in the northern portion of Los Angeles County, especially in the cities of Palmdale and Lancaster. In addition, insufficient regional access both to and from the Palmdale Airport constrains the likelihood of future airport expansion. The Southern California Association of Governments (SCAG) has identified the Palmdale Airport as the key component in the regional airport system and states that by 2025, the airport will play an important role in servicing the Northern Los Angeles Region as this area continues to experience growth.

Alternatives under consideration include (1) “No-Build”; (2) Constructing a new 4-lane east-west State Route 138 (SR-138) from State Route 14 (SR-14) to 50th Street, and then transitioning to a 4-lane expressway up to 100th Street; and (3) Constructing a freeway/expressway similar in scope to Alternative 2 except for the portion between 15th Street and 70th Street where the alignment shifts south by approximately 2190 feet. For this segment the centerline alignment would follow the original easement granted by Los Angeles World Airport (LAWA). Incorporated into and studied with the various build alternatives will be design variations of grade and alignment.

It is anticipated that this new freeway/expressway would be constructed on six to eight feet of fill material. In areas prone to flooding, the fill material (vertical profiles) would increase to avoid flooding problems. Culverts, ditches, and viaducts would also be constructed when necessary to avoid floodwaters and washes. For alternatives 2 and 3, viaducts are proposed from approximately Division Street to 10th Street and at Little Rock Wash. Alternatives 2 and 3 also include a proposal to close the existing partial interchange at SR-14 and Rancho Vista Blvd. and modifying the existing partial interchange at SR-14 and 10th Street West to a full interchange.

It is anticipated that the proposed project may require the following federal approvals and permits: a Biological Opinion from the United States Fish and Wildlife Service, approval of a PM10 and PM2.5 Hot Spot Analysis by the Conformity Working Group for transportation conformity determination under the Clean Air Act, Section 401, 402 and 404 permits under the Clean Water Act, and a Farmland Conversion Impact Rating under the Farmland Protection Policy Act.

Letters describing the proposed action and soliciting comments will be sent to appropriate Federal, State and local agencies, Participating Agencies, Tribal governments, and to private organizations and citizens who have previously expressed or are known to have an interest in this proposal. NEPA requires the lead agency to conduct an early and open process for determining the scope of issues to be addressed and for identifying the significant issues related to a proposed action. In compliance with NEPA, a formal scoping meeting will be held in the City of Palmdale on February 10, 2009 at the Palmdale Cultural Center, located at 38350 N. Sierra Highway, Palmdale, CA 93550. Public notice will be given of the time and place of the meeting.

To ensure that the full range of issues related to this proposed action are addressed and all significant issues identified, comments and suggestions are invited from all interested parties. Comments or questions concerning this proposed action and the draft EIS should be directed to Caltrans at the address provided above.

(Catalog of Federal Domestic Assistance Program Number 20.205, Highway Planning and Construction. The regulations implementing Executive Order 12372 regarding intergovernmental consultation on Federal programs and activities apply to this program.)

Issued on: January 21, 2009.
Cindy Vigue,
Director, State Programs, Federal Highway Administration, Sacramento, California.

[FR Doc. E9-1685 Filed 1-26-09; 8:45 am]

BILLING CODE 4910-22-P